POSTAL REGULATORY COMMISSION

Sunshine Act Meetings

Federal Register Citation of Previous Announcement: 74 FR 61380 (November 24, 2009).

Previously Announced Time and Date of Meeting: 11 a.m., Wednesday, December 2, 2009.

CHANGES IN THE MEETING: The agenda has been expanded to include discussion, in open session, of whether to provide audio streaming of the public portion of monthly Commission meetings.

CONTACT PERSON FOR MORE INFORMATION: Stephen L. Sharfman, General Counsel, 202-789-6824 or stephen.sharfman@prc.gov.

Judith M. Grady,
Acting Secretary.

[FR Doc. E9-29000 Filed 12-1-09; 4:15 pm]

BILLING CODE 7710-FW-S